DEPARTMENT OF HEALTH AND HUMAN SERVICES

Administration for Community Living

Agency Information Collection Activities; Proposed Collection; Comment Request; National Adult Maltreatment Reporting System; OMB# 0985-0054

AGENCY: Administration for Community Living (ACL), HHS.

ACTION: Notice.

SUMMARY: The Administration for Community Living is announcing that the proposed collection of information listed above has been submitted to the Office of Management and Budget (OMB) for review and clearance as required under the Paperwork Reduction Act of 1995. This 30-Day notice collects comments on the information collection requirements related to an extension without change and solicits comments on the information collection requirements related to the on the information collection requirements relating to the National Adult Maltreatment Reporting System (NAMRS).

DATES: Submit written comments on the collection of information by March 20, 2023.

ADDRESSES: Submit written comments on the collection of information by:

(a) Email to: OIRA_submission@omb.eop.gov, Attn: OMB Desk Officer for ACL;

(b) Fax to 202.395.5806, Attn: OMB Desk Officer for ACL; or

(c) By mail to the Office of Information and Regulatory Affairs, OMB, New Executive Office Bldg., 725 17th St. NW, Rm. 10235, Washington, DC 20503, Attn: OMB Desk Officer for ACL.

FOR FURTHER INFORMATION CONTACT: Stephanie Whittier Eliason, Administration for Community Living, Washington, DC 20201, 202-795-7467 at Stephanie.WhittierEliason@acl.hhs.gov.

SUPPLEMENTARY INFORMATION: In compliance with 44 U.S.C. 3507, ACL has submitted the following proposed collection of information to OMB for review and clearance. The National Adult Maltreatment Reporting System authorized under the Elder Justice Act of 2009, which amends Title XX of the Social Security Act [42.U.S.C. 13976 et seq.], requires that the Secretary of the U.S. Department of Health and Human Services “collects and disseminates data annually relating to the abuse, exploitation, and neglect of elders in coordination with the Department of Justice” [Sec. 2041(a)(1)(B)] and “conducts research related to the provision of adult protective services” [Sec. 2041(a)(1)(D)].

The Elder Justice Coordinating Council (EJCC) recommended development of “a national adult protective services (APS) system based upon standardized data collection and a core set of service provision standards and best practices.”

NAMRS is a voluntary system that has been annually collecting since FY 2016 both summary and de-identified case-level data on APS investigations submitted by states, and the data does not include any personally identifiable information. NAMRS has and will continue to consist of three components:

(1) Descriptive data on state agency and practices from all states through the “Agency Component,” and

(2) Case-level, non-identifiable data on persons who receive an investigation by APS in response to an allegation of abuse, neglect, or exploitation through “Case Component”, or

(3) For states that are unable to submit a case-level file through the “Case Component,” a “Key Indicators Component” will be available for them to submit data on a smaller set of core items.

ACL will continue to provide technical assistance to assist in the preparation of data submissions by state APS agencies and APS agencies in the District of Columbia, Puerto Rico, Guam, Northern Mariana Islands, Virgin Islands, and American Samoa (states, hereafter).

To address gathering necessary and relevant demographic information to assess diversity and equity in evidence-based program scaling, participation, and advances; ¹ the proposed revisions were compared to the Updates on Terminology of Sexual Orientation and Gender Identity (SOGI) Survey Measures from the Federal Committee on Statistical Methodology that came out after publication of the 60-day notice. Several of the changes originally proposed were consistent with SOGI, and ACL made additional changes in the 30-day posting to further align with the SOGI recommendations. The proposed collection is consistent with the SOGI recommendations conceptually and specifically aligns for most of the code values for sexual orientation and gender identity. A 60-day Federal Register notice published on Monday, May 23, 2022, in Federal Register Vol. 87, No. 99, page 31243.

¹ Executive Order on Advancing Racial Equity and Support for Underserved Communities Through the Federal Government and the Executive Order on Advancing Equality for Lesbian, Gay, Bisexual, Transgender, Queer, and Intersex Individuals.

Response to Public Comment Table
Name | Position | Comment | Draft response/notes for discussion
Shelly Fiebich | Director, Bureau of Adult Services Division of Child Welfare and Community Services New York State | Case Component 5 & 6: ACL should enhance the quality and clarify of information collected by adding “declined to answer” as a selection for gender identity and sexual orientation Key Indicator 9: ACL should enhance the quality and clarity of information collected by providing an option for individuals to mark their gender as “X” in fields that collect this information. People should also have the option to mark decline to answer in fields collecting information about gender identity and sexual orientation. Including these additional options leads to more accurate information and affirming reporting by individuals. It's consistent with the Biden administration`s efforts to authorize individuals to select “X” as their gender marker on U.S. passports and other federal documents, and in alignment with New York State`s commitment to provide individuals the option of marking agenda or sex as “X” on state forms, including a driver license, learner permit or non-driver identification card | ACL will align the proposed NAMRS code values with the recent federal Sexual Orientation and Gender Identity (SOGI) recommendations. The SOGI recommendations use “prefer not to answer” instead of “X”. If NYS uses “X” as a value in its case management system, then it should map “X” to the appropriate category in NAMRS. Based on the SOGI recommendations, we will also add the following code values: [If respondent is AIAN:] Two-Spirit and “Prefer not to answer”.
Shelly Fiebich | Director, Bureau of Adult Services Division of Child Welfare and Community Services New York State | Agency Component 7.1.1: The collection of estimated FTEs of staff and supervisors devoted only to APS work when staff are shared among other programs is not feasible in NY because this information is not collected or tracked at the state level and all reporting systems are for separate entities. Further, the collection of this information does not appear necessary for the proper performance of ACL functions Regarding ACL`s estimated program burden, NYSOCFS respectfully submits that the agency requirement to collect FTEs would require an annual estimated statewide burden of over 370 hours for the local Department of Social Services to collect and submit that information to New York State OCFS | No change. FTEs is not a required data element and if it is considered too costly to collect and reported by any state they do not have to do so. The FTE data is important to understanding the APS system workforce and is used in various technical assistance and evaluation activities.
Shelly Fiebich | Director, Bureau of Adult Services Division of Child Welfare and Community Services New York State | Agency 10: ACL should clarify the definition of “priority level” to provide clarity of information collected | No change. Based on responses in NAMRS, almost all states have priority levels and are generally using this terminology. Each state defines a set of priority responses based on its policy. ACL received no other comments indicating a need to define the term. States are encouraged to use the comment field to provide state-specific clarifying information and a link to the specific policy.
Shelly Fiebich | Director, Bureau of Adult Services Division of Child Welfare and Community Services New York State | Agency 21: ACL should clarify the definition of and purpose for the request of collecting the source of ethical principles and how it relates to the proper performance of ACL's functions | No change. One of the defining characteristics of the APS system is how it addresses issues such as self-determination, so it is important to understand the source of each program's ethical principles. ACL oversees implementation of the Elder Justice Act and its funding, so it is important to understand how programs respect individual rights consistent with the EJA.
Jay Colbert | Data Manager The Polis Center at IUPUI School of Informatics and Computing | I've been looking at your NAMRS reports. If I read them right, it's all national data. Is there any place to get state-level data yet? Please include the need for state-level data reports in your NAMRS public comment tracking document | Agree. Prior to this data renewal, ACL has not shared state specific data without state permission. Notice was provided in the 60-day FRN and is addressed again in the Supporting Statement for this 30 FRN of ACL's intent to begin sharing state-specific data.
Dorian Long | Connecticut APS | Specific ages of perpetrator may present as a challenge. Connecticut proposes that age ranges are added as an option be used to support more opportunities for completion of data element. Please see below: 17 and younger. 18 to 34 years. 35 to 59 years. 60 to 74 years. 75 years and over. | No change. The NAMRS age ranges were selected to match census categories and not the proposed categories.
Maria Greene | Consultant | While conducting a comprehensive review of NAMRS, please consider adding requirements for a unique identification number for the worker and supervisor involved in a case. This is done in the child maltreatment reporting system and is useful data for analyzing staff workload and caseloads | No change. While this would provide useful information, it would add burden to state responses. ACL would not want to make this change in the final posting without discussion with stakeholders. ACL will consider its inclusion in the future.
Maria Greene | Consultant | I propose the addition of one question to the NAMRS Agency Component. In the Agency Profile, ask a question about the Information System that the state uses to collect data | Agree. Understanding the case information systems used by states will help ACL provide technical assistance support to APS programs in submitting data and is important for understanding and modernizing the NAMRS system. The data collection will include an additional question in the Agency Component as follows:
|  |  | Select which of the following describes the automated system your state uses to document case information: • Statewide system developed by the state • Statewide system developed by an outside vendor. (Please use the comment field to identify the vendor, the name of the system, and when you obtained it.) • Separate systems for different geographic areas of the state • Do not have an automated system.
|  |  | Comment: If your state has multiple APS programs, please provide response to the above question for each program. If your state used a statewide system developed by an outside vendor, please use the comment field to identify the vendor, the name of the system, and when you obtained it.
Mary McGurran | Adult Protection Supervisor | Aging and Adult Services, Minnesota Department of Human Services | Case Component, Case Component, Key Indicators; Use social service terminology for consistency with the ACL definition of adult protective services (APS) as a social service program to maximize client safety and independence and for consistency with ACL values for person-centered planning processes. Suggestions: • Investigation: Assessment. • Victim: Client, Adult, Adult vulnerable to maltreatment, Older adult or Adult with a disability. • Perpetrator: Person responsible, or person alleged responsible for maltreatment. | No change. While ACL agrees person-centered terminology should be used whenever possible, the original terms were selected carefully and deliberatively after consultation with state APS programs. ACL would not want to make this kind of change in the final posting without further consultation with the states. The terminology in NAMRS needs to be consistent with state law in across the states and ACL is not aware to what extent the proposed terms are currently used. Because of the importance of the issue, the Adult Protective Services Technical Assistance Resource Center recently hosted a discussion of APS terminology to start such a dialogue. ACL will consider changes in terminology in future changes.
Mary McGurran | Adult Protection Supervisor | Aging and Adult Services, Minnesota Department of Human Services | Agency Component Data; Enhance selections on APS use of involuntary interventions 26. Involuntary Intervention: Add Guardianship and Mental Health Commitment | No change in the selections but include “mental health commitment” in the examples. The current selections list does not include specific interventions and inclusion of them would be changing the nature of the data element.
Mary McGurran | Adult Protection Supervisor | Aging and Adult Services, Minnesota Department of Human Services | Case Component Data; Enhance data selections to include a service approach effective in preventing maltreatment. CLT26: Add code for Support System Engaged | No change. The suggested code “Support System Engaged” falls under the definition of current code value “Care Case Management” and should be mapped and reported to it.
Mary McGurran | Adult Protection Supervisor | Aging and Adult Services, Minnesota Department of Human Services | NAMRS Annual Report; Enhance data report to improve utility for APS program evaluation and equity Add: race/ethnicity; gender identify; sexual orientation; disability type for clients referred and accepted for APS and for voluntary and involuntary services and interventions Add state population rate for: reports; reports accepted; investigation/assessment; services; involuntary intervention; client location at APS start and close | No change. ACL agrees in principle with this recommendation. However, it impacts the reporting and use of the current data and does not require a change in the proposed data elements. The suggested demographic categories are all currently part of the data collection except that referred and accepted data is collected in the Agency Component and is not client specific. After this data renewal, as noted in the postings, ACL will begin sharing state specific data so this recommendation is timely. ACL will consider how to incorporate state population rates in any future reports that include state-specific data.

Estimated Program Burden: ACL estimates the burden associated with this collection of information as follows: 59 APS programs will respond every year to the Agency Component, with 50 states providing Case Component data and 9 states providing Key Indicator data. The total annual burden is estimated to be 5,416 hours. The estimates are based on the amount of time States have previously reported in completing the data collection instruments; continued increase in the number of states reporting on Case Component and Key Indicator Component data; one-time costs for the changes in the data elements for this renewal; and assumption of modest incremental efficiencies by States in reporting data to NAMRS every year, including, most significantly, minimal need to recode to extract data after the initial year.

Respondent/data collection activity | Number of respondents | Responses per respondent | Hours per response | Annual burden estimate
Agency One-Time | 59 | 1 | 6.20 | 365.80
Key Indicator One-Time | 9 | 1 | 30.00 | 270.00
Case Component One-Time | 50 | 1 | 83 | 4,150.00
One-Time Subtotal |  |  | 119.20 | 4,785.80
Agency Component | 59 | 1 | 4 | 236.00
Key Indicators Component | 9 | 1 | 20 | 180.00
Case Component | 50 | 1 | 100 | 5,000.00
Recurring Sub-total |  |  | 124 | 5,416.00

Dated: February 11, 2023.
Alison Barkoff,
Acting Administrator and Assistant Secretary for Aging.

[FR Doc. 2023-03266 Filed 2-15-23; 8:45 am]

BILLING CODE 4154-01-P